DEPARTMENT OF TRANSPORTATION

Coast Guard

[USCG 2000-8252]

Information Collections Under Review by the Office of Management and Budget (OMB): 2115-0012 and 2115-0518

AGENCY: Coast Guard, DOT.

ACTION: Request for comments.

SUMMARY: In compliance with the Paperwork Reduction Act of 1995, this request for comments announces that the Coast Guard has forwarded the two Information Collection Requests (ICRs) abstracted below to OMB for review and comment. These ICRs describe the information we seek to collect from the public. Review and comment by OMB ensures that we impose only paperwork burdens commensurate with our performance of duties.

DATES: Please submit comments on or before March 30, 2001.

ADDRESSES: Please send comments to (1) the Docket Management System (DMS), U.S. Department of Transportation (DOT), room PL-401, 400 Seventh Street SW., Washington, DC 20590-0001; and (2) the Office of Information and Regulatory Affairs (OIRA), Office of Management and Budget (OMB), 725 17th Street NW., Washington, DC 20503, to the attention of the Desk Officer for the USCG.

Copies of the complete ICRs are available for inspection and copying in public docket USCG 2000-8252 of the Docket Management Facility between 10 a.m. and 5 p.m., Monday through Friday, except Federal holidays; for inspection and printing on the internet at http://dms.dot.gov; and for inspection from the Commandant (G-CIM-2), U.S. Coast Guard, room 6106, 2100 Second Street SW., Washington, DC, between 10 a.m. and 4 p.m., Monday through Friday, except Federal holidays.

FOR FURTHER INFORMATION CONTACT: Barbara Davis, Office of Information Management, 202-267-2326, for questions on this document; Dorothy Beard, Chief, Documentary Services Division, U.S. Department of Transportation, 202-366-9330, for questions on the docket.

SUPPLEMENTARY INFORMATION:

Regulatory History

This request constitutes the 30-day notice required by OMB. The Coast Guard has already published [65 FR 69600 (November 17, 2000)] the 60-day notice required by OMB. That request elicited no comments.

Request for Comments

The Coast Guard invites comments on the proposed collections of information to determine whether the collections are necessary for the proper performance of the functions of the Department. In particular, the Coast Guard would appreciate comments addressing: (1) The practical utility of the collections; (2) the accuracy of the Department's estimated burden of the collections; (3) ways to enhance the quality, utility, and clarity of the information that is the subject of the collections; and (4) ways to minimize the burden of collections on respondents, including the use of automated collection techniques or other forms of information technology.

Comments, to DMS or OIRA, must contain the OMB Control Numbers of all ICRs addressed. Comments to DMS must contain the docket number of this request, USCG 2000-8252. Comments to OIRA are best assured of having their full effect if OIRA receives them within 30 days or less after the publication of this request.

Information Collection Requests

1. Title: U.S. Coast Guard Academy—Preliminary Application and Supplemental Forms.

OMB Control Number: 2115-0012.

Type of Request: Extension of a currently approved collection.

Affected Public: Men and women between the ages of 17 and 22.

Forms: Coast Guard Academy (1) Preliminary Application, (2) High School Transcript, (3) Candidate Activities, (4) Evaluation by English Instructor, (5) Evaluation by Math Instructor, (6 ) Evaluation by Instructor of PE or by Coach, (7) Background Information, and (8) Essay Questions.

Abstract: Any person who wishes to compete for an appointment as a Coast Guard Cadet must fill out a Preliminary Application and must fill out or have others fill out the seven Supplemental Forms.

Annual Estimated Burden Hours: The estimated burden is 6,640 hours a year.

2. Title: International Oil Pollution Prevention Certificate.

OMB Control Number: 2115-0518.

Type of Request: Extension of a currently approved collection.

Affected Public: Owners and operators of vessels.

Forms: CG-5352, CG-5352A, and CG-5352B.

Abstract: The information collected aids in the prevention of pollution from ships. An International Oil Pollution Prevention Certificate and other records serve to verify vessels' compliance with certain international and domestic rules on shipping.

Annual Estimated Burden Hours: The estimated burden is 6,858 hours a year.

Dated: February 20, 2001.
V.S. Crea,
Director of Information and Technology.

[FR Doc. 01-4883 Filed 2-27-01; 8:45 am]

BILLING CODE 4910-15-U